DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-028. Applicant: North Carolina State University, Campus Box 7212, Raleigh, NC 27695-7212. Instrument: Microarray System, Model QArray mini X2700. Manufacturer: Genetix Ltd, United Kingdom. Intended Use: The instrument is intended to be used to study hyperthermophilic (organisms that have an optimum temperature of growth about 80 degrees Celsius) bacteria, microorganisms and proteins. The hyperthermophilic organisms will be grown with various growth substrates and growth conditions and the microarrays will be used to study gene expression under such conditions. Antibodies specific to the hyperthermophilic proteins of interest will be printed onto arrays to aid in the broad investigation of their enzymatic activities and to further characterize the proteins. Application accepted by Commissioner of Customs: June 10, 2003.

Gerald A. Zerdy,
Program Manager, Statutory Import Programs Staff.

[FR Doc. 03-16489 Filed 6-27-03; 8:45 am]

BILLING CODE 3510-DS-P